OFFICE OF PERSONNEL MANAGEMENT

[OMB Control No. 3206-0232; OPM Form 1673]

Submission for OMB Review: Comment Request for Review of an Expiring Information Collection: Procedures for Submitting Compensation and Leave Claims

AGENCY: U.S. Office of Personnel Management.

ACTION: Notice.

SUMMARY: In accordance with the Paperwork Reduction Act of 1995 (Pub. L. 104-13, May 22, 1995), this notice announces that the U.S. Office of Personnel Management (OPM) submitted to the Office of Management and Budget (OMB) a request for review of an expiring information collection. This information collection, “Procedures for Submitting Compensation and Leave Claims” (OMB Control No. 3206-0232; OPM Form 1673), is used to collect information from current and former Federal civilian employees who are submitting a claim for compensation and/or leave. OPM needs this information in order to adjudicate the claim.

We received no comments on our 60-day notice on this information collection (OPM Form 1673), published in the Federal Register on June 17, 2008.

Approximately 80 claims are submitted annually. It takes approximately 60 minutes to complete the form. The annual estimated burden is 80 hours.

For copies of this proposal, contact Margaret A. Miller by telephone at (202) 606-2699, by FAX at (202) 418-3251, or by e-mail at Margaret.Miller@opm.gov. Please include a mailing address with your request.

DATES: Comments on this proposal should be received within 30 calendar days from the date of this publication.

ADDRESSES: Send or deliver comments to:

Robert D. Hendler, Program Manager, Center for Merit Systems Compliance, Division for Human Capital Leadership and Merit System Compliance Group, U.S. Office of Personnel Management, 1900 E Street, NW., Room 6484, Washington, DC 20415; and

John W. Barkhamer, OPM Desk Officer, Office of Information and Regulatory Affairs, Office of Management and Budget, New Executive Office Building, 725 17th Street, NW., Room 10235, Washington, DC 20503.

U.S. Office of Personnel Management.
Howard Weizmann,
Deputy Director.

[FR Doc. E8-22974 Filed 9-29-08; 8:45 am]

BILLING CODE 6325-43-P